DEPARTMENT OF HEALTH AND HUMAN SERVICES

Office of the Secretary

[Document Identifier: HHS-OS-0990—New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before May 11, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990—New-60D for reference.

Information Collection Request Title: HHS Entrepreneurs-in-Residence Program (EIR).

Abstract: The HHS IDEA Lab, in the Immediate Office of the Secretary, is requesting an approval by Office of Management and Budget (OMB) on a new information collection, which is critical to the success of the HHS EIR program, and identifies private sector entrepreneurs with unique skill sets not available in government to join HHS for a year to work on critical initiatives. The information collection for the HHS EIR custom form management system involves obtaining candidate resumes and responses to short essay questions specifically designed to determine whether entrepreneurs have the knowledge, skills and abilities to successfully complete HHS EIR projects in the government context and mentor existing government staff to acquire new, entrepreneurial skills.

Likely Respondents: The candidate pools, targeted for the HHS EIR program are serial private sector entrepreneurs with no prior federal government experience.

Total Estimated Annualized Burden—Hours
Form name | Number of respondents | Number of responses per respondent | Average burden per response (in hours) | Total burden hours
HHS EIR Application | 150 | 1 | 1 | 150
Total | 150 | 1 | 1 | 150

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Deputy Information Collection Clearance Officer.

[FR Doc. 2015-05624 Filed 3-11-15; 8:45 am]

BILLING CODE 4150-03-P